DEPARTMENT OF AGRICULTURE

Forest Service

Information Collection; Federal Excess Personal Property (FEPP) and Firefighter Property (FFP) Program Cooperative Agreements and Inventory

AGENCY: Forest Service, USDA.

ACTION: Notice; request for comment.

SUMMARY: In accordance with the Paperwork Reduction Act of 1995, the Forest Service is seeking comments from all interested individuals and organizations on the revision of the currently approved information collection, Federal Excess Personal Property (FEPP) and Firefighter Property (FFP) program Cooperative Agreements and Inventory.

DATES: Comments must be received in writing on or before February 7, 2014 to be assured of consideration. Comments received after that date will be considered to the extent practicable.

ADDRESSES: Comments concerning this notice should be addressed to: USDA, Forest Service, Fire and Aviation Management (F&AM), Attn: Melissa Frey, 1400 Independence Ave. SW., Mailstop 1107, Washington, DC 20250. Comments also may be submitted via email to: mfrey@fs.fed.us.

The public may inspect comments received at USDA Forest Service, F&AM, 1621 N. Kent Street, 9th Floor, Rosslyn, VA during normal business hours. Visitors are encouraged to call ahead to 202-206-1483 to facilitate entry to the building.

FOR FURTHER INFORMATION CONTACT: Melissa Frey, Fire and Aviation Management, 202-205-1090. Individuals who use telecommunication devices for the deaf (TDD) may call the Federal Relay Service (FRS) at 1-800-877-8339 between 8 a.m. and 8 p.m., Eastern Standard Time, Monday through Friday.

SUPPLEMENTARY INFORMATION:

Title: Federal Excess Personal Property (FEPP) and Firefighter Property (FFP) Program Cooperative Agreements and Inventory.

OMB Number: 0596-0223.

Type of Request: Revision of a Currently Approved Information Collection.

Abstract: Federal Excess Personal Property (FEPP) and Firefighter Property (FFP) Program Cooperative Agreements are available to State forestry agencies. The program provides State agency participants with surplus Department of Defense, and other Federal agency, equipment and supplies to be used in firefighting and emergency services. The FEPP program loans property to the State, who in turn sub-loans the equipment and supplies to fire departments. The FFP program transfers ownership of the equipment to either the State agency or the individual fire department.

A cooperative agreement collects information from State agency participants and outlines the requirements and rules for the cooperation. Each State forestry agency shall provide an Accountable Officer who will be responsible for the integrity of the program within their respective State. For this reason, FEPP and FFP collect the State forestry agency contact information, the information of the Accountable Officer, and the requirements for participation in the FEPP and FFP programs.

A cooperative agreement will be prepared by each State forestry agency that desires to participate in, one or both of, the programs. State agencies must submit separate agreements if they desire to be participants in both programs. Agreements will be processed and maintained by the Partnerships and Cooperative Programs branch of Fire and Aviation Management in each Forest Service Regional Office.

Since the property belongs to the Forest Service, the inventory system facilitates reports by State agency participants to the Forest Service on the status and location of the property. State agencies use the electronic database Federal Excess Property Management Information System (FEPMIS) to submit information regarding the property make, model, serial number, acquisition value, location, and acquisition date when an item is acquired or no longer need. Forest Service Property Management Technicians collect the information from FEPMIS and enter it into the National Finance Center database, as required by Federal Property Management Regulations. Forest Service Property Management Officers analyze the data collected to ensure that the property accountability is accurate and to confirm the property is being used as required.

The authority to provide surplus supplies to State agencies comes from Federal Property and Administration Services Act of 1949, 40 U.S.C., Sec 202. Authority to loan excess supplies comes from 10 U.S.C., Subtitle A, Part IV, Chapter 153, 2576b, which grants the authority for the FFP program.

With this submission, Forest Service proposes to combine the burden of two separate OMB approved Information Collections 0596-0223 Federal Excess Personal Property (FEPP) and Firefighter Property (FFP) Cooperative Agreements, and 0596-0218 Federal Excess Personal Property (FEPMIS Database) into one request with the OMB control number of 0596-0223 entitled Federal Excess Personal Property (FEPP) and Firefighter Property (FFP) Program Cooperative Agreements and Inventory. Upon approval of this request, the Agency will then submit a discontinue request for the OMB control number 0596-0218 entitled Federal Excess Personal Property (FEPMIS Database.)

Estimate of Annual Burden: 1 hour and 2 minutes.

Type of Respondents: State Foresters and State Agency FEPP Property Managers.

Estimated Annual Number of Respondents: 65.

Estimated Annual Number of Responses per Respondent: 302.

Estimated Total Annual Burden on Respondents: 570 hours.

Comment is Invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: December 2, 2013.
James Hubbard,
Deputy Chief, State and Private Forestry.

[FR Doc. 2013-29232 Filed 12-6-13; 8:45 am]

BILLING CODE 3410-11-P